DEPARTMENT OF ENERGY

Federal Energy Regulatory Commission

[Docket No. EC00-115-000, et al.]

FortisUS Energy Corporation, et al.; Electric Rate and Corporate Regulation Filings

August 1, 2000.

Take notice that the following filings have been made with the Commission:

1. FortisUS Energy Corporation

[Docket No. EC00-115-000]

Take notice that on July 28, 2000, FortisUS Energy Corporation tendered for filing, pursuant to 18 CFR 33.3(h), a copy of a contract related to its Application for Order Authorizing Disposition of Jurisdictional Facilities which was submitted on July 20, 2000. Confidential treatment of the contract, pursuant to 18 CFR 388.112, is requested.

Comment date: August 21, 2000, in accordance with Standard Paragraph E at the end of this notice.

2. Trigen-Baca Operating Corporation

[Docket No. EG00-229-000]

Take notice that on July 25, 2000, Trigen-Baca Operating Corporation, 25 Tenth Street, Golden, Colorado 80401-0088 (Applicant), filed with the Federal Energy Regulatory Commission an application for determination of exempt wholesale generator status pursuant to part 365 of the Commission's regulations.

The Applicant is a Delaware corporation. The Applicant proposes to operate two new electric generation plants, each consisting of a single approximately 5-megawatt gas turbine, in the process of construction in unincorporated Baca County, Colorado (the Facilities). The Facilities are scheduled to begin commercial operation July 1, 2000. All of the electric output of the Facilities will be sold at wholesale, initially to Tri-State Generation and Transmission Association, Inc.

Comment date: August 22, 2000, in accordance with Standard Paragraph E at the end of this notice. The Commission will limit its consideration of comments to those that concern the adequacy or accuracy of the application.

3. Lockport Power Generation, LLC

[Docket No. EG00-231-000]

Take notice that on July 26, 2000, Lockport Power Generation, LLC (the Applicant) whose address is 600 Campus Park Drive, Florham Park, New Jersey 07931, filed with the Federal Energy Regulatory Commission an application for determination of exempt wholesale generator status pursuant to Part 365 of the Commission's regulations.

The Applicant states that it will be engaged directly and exclusively in the business of owning and/or operating an approximately 200 MW natural gas fired electric generating facility located near Lockport, Illinois and selling electric energy at wholesale. The Applicant requests a determination that the Applicant is an exempt wholesale generator under Section 32(a)(1) of the Public Utility Holding Company Act of 1935.

Comment date: August 22, 2000, in accordance with Standard Paragraph E at the end of this notice. The Commission will limit its consideration of comments to those that concern the adequacy or accuracy of the application.

4. NEO Chester-Gen LLC

[Docket No. EG00-233-000]

Take notice that on July 27, 2000, NEO Chester-Gen LLC filed with the Federal Energy Regulatory Commission an application for determination of exempt wholesale generator status pursuant to section 32(a)(1) of the Public Utility Holding Company Act of 1935 (PUHCA). The applicant is a limited liability company organized under the laws of the State of Delaware that will be engaged directly and exclusively in owning and operating a 3.3 MW cogeneration facility, located in Chester, Pennsylvania and selling electric energy at wholesale.

Comment date: August 21, 2000, in accordance with Standard Paragraph E at the end of this notice. The Commission will limit its consideration of comments to those that concern the adequacy or accuracy of the application.

5. NRG Energy Center Dover LLC

[Docket No. EG00-234-000]

Take notice that on July 27, 2000, NRG Energy Center Dover LLC filed with the Federal Energy Regulatory Commission an application for determination of exempt wholesale generator status pursuant to section 32(a)(1) of the Public Utility Holding Company Act of 1935 (PUHCA). The applicant is a limited liability company organized under the laws of the State of Delaware that will be engaged directly and exclusively in owning, operating, and expanding a 18 MW cogeneration facility, located in Dover, Delaware, and selling electric energy at wholesale.

Comment date: August 22, 2000, in accordance with Standard Paragraph E at the end of this notice. The Commission will limit its consideration of comments to those that concern the adequacy or accuracy of the application.

6. Dynegy Midwest Generation, Inc.

[Docket No. EG00-235-000]

Take notice that on July 27, 2000, Dynegy Midwest Generation, Inc., 1000 Louisiana, Suite 5800, Houston, Texas filed with the Federal Energy Regulatory Commission an application for determination of exempt wholesale generator status pursuant to Part 365 of the Commission's Regulations.

Dynegy Midwest Generation, Inc. is a Delaware corporation, and is engaged directly and exclusively in owning and/or operating certain electric generating facilities in Illinois, and selling electric energy at wholesale.

Comment date: August 22, 2000, in accordance with Standard Paragraph E at the end of this notice. The Commission will limit its consideration of comments to those that concern the adequacy or accuracy of the application.

7. NEO Toledo-Gen LLC

[Docket No. EG00-236-000]

Take notice that on July 27, 2000, NEO Toledo-Gen LLC filed with the Federal Energy Regulatory Commission an application for determination of exempt wholesale generator status pursuant to section 32(a)(1) of the Public Utility Holding Company Act of 1935 (PUHCA). The applicant is a limited liability company organized under the laws of the State of Delaware that will be engaged directly and exclusively in owning and operating a 750 kW cogeneration facility, located in Toledo, Ohio, and selling electric energy at wholesale.

Comment date: August 22, 2000, in accordance with Standard Paragraph E at the end of this notice. The Commission will limit its consideration of comments to those that concern the adequacy or accuracy of the application.

8. NEO Freehold-Gen LLC

[Docket No. EG00-237-000]

Take notice that on July 27, 2000, NEO Freehold-Gen LLC filed with the Federal Energy Regulatory Commission an application for determination of exempt wholesale generator status pursuant to section 32(a)(1) of the Public Utility Holding Company Act of 1935 (PUHCA). The applicant is a limited liability company organized under the laws of the State of Delaware that will be engaged directly and exclusively in owning and operating a 2.1 MW cogeneration facility, located in Freehold, New Jersey, and selling electric energy at wholesale.

Comment date: May 5, 2000, in accordance with Standard Paragraph E at the end of this notice. The Commission will limit its consideration of comments to those that concern the adequacy or accuracy of the application.

9. Commonwealth Edison Company, Commonwealth Edison Company of Indiana

[Docket No. ER00-1820-002]

Take notice that on July 27, 2000, Commonwealth Edison Company and Commonwealth Edison Company of Indiana (collectively ComEd), tendered for filing tariff sheet changes in compliance with the Commission's order of July 12, 2000 in this proceeding.

Comment date: August 17, 2000, in accordance with Standard Paragraph E at the end of this notice.

10. PJM Interconnection, L.L.C.

[Docket Nos. ER00-2445-001 and EL00-74-001]

Take notice that on July 24, 2000, PJM Interconnection, L.L.C. (PJM), in compliance with the Commission's July 7, 2000 order in these dockets, 92 FERC ¶ 61,013 (July 7 Order), submitted the following revised sheets to the Appendix to Attachment K of PJM's Open Access Transmission Tariff (Tariff) on file with the Commission:

Substitute Second Revised Sheet No. 174

Substitute Original Sheet No. 174a

and identical changes to the following pages of Schedule 1 of the Amended and Restated Operating Agreement of PJM Interconnection, L.L.C. (OA):

Substitute First Revised Sheet No. 99

Substitute First Revised Sheet No. 99A

PJM states that the revised sheets implement the requirements of the July 7, 2000 Order that: (1) PJM provide advance notice of its intention to schedule generators in anticipation of an emergency; and (2) PJM permit a generator that specifies a minimum run time to elect to submit a cost-based bid following a posted emergency and return to market-based bidding the following operating day.

In compliance with the July 7, 2000 Order, PJM requests an effective date of July 7, 2000 for these revised Tariff and OA sheets.

Comment date: August 14, 2000, in accordance with Standard Paragraph E at the end of this notice.

11. ISO New England Inc.

[Docket No. ER00-3233-000]

Take notice that on July 21, 2000, ISO New England Inc. tendered for filing with the Federal Energy Regulatory Commission (Commission) for informational purposes only its amended By-Laws.

Comment date: August 11, 2000, in accordance with Standard Paragraph E at the end of this notice.

12. Deseret Generation and Transmission Co-operative, Inc.

[Docket No. ER00-3277-000]

Take notice that on July 27, 2000, Deseret Generation & Transmission Co-operative, Inc. (Deseret), tendered for filing an executed Confirmation Agreement for a firm power sale between Deseret and Idaho Power Company d/b/a Idacorp Energy (Idacorp). This Confirmation Agreement is filed pursuant to the Western Systems Power Pool Agreement regarding a long-term power purchase and sale transaction.

Deseret requests an effective date of July 1, 2000.

Comment date: August 17, 2000, in accordance with Standard Paragraph E at the end of this notice.

13. California Independent System Operator Corporation

[Docket No. ER00-3278-000]

Take notice that the California Independent System Operator (ISO), on July 27, 2000, tendered for filing a proposed Restated Interim Agreement between the ISO, Pacific Gas and Electric (PG&E), and the Sacramento Municipal Utility District (SMUD), FERC Electric Service Tariff No. 39. The ISO states that the Restated Interim Agreement serves the purposes of giving SMUD the opportunity to schedule and settle with the ISO through its chosen Scheduling Coordinator; having SMUD self-provide Regulation for the SMUD system, including providing direct Automatic Generation Control to the ISO's Energy Management System; providing SMUD the opportunity to participate in the ISO's markets in accordance with the ISO's proposed terms applicable to Metered Subsystems in exchange for SMUD's relinquishing its right to make schedule changes after the close of the ISO's Hour-Ahead Market; having SMUD provide real-time operating information to the ISO's Energy Management System by direct telemetry as soon as possible; and adding the option for the ISO or SMUD to terminate the Restated Interim Agreement on or after March 31, 2003.

The ISO states that this filing has been served on PG&E, SMUD, the California Electricity Oversight Board, and the California Public Utilities Commission.

Comment date: August 17, 2000, in accordance with Standard Paragraph E at the end of this notice.

14. California Independent System Operator Corporation

[Docket No. ER00-3279-000]

Take notice that July 27, 2000, the California Independent System Operator Corporation (ISO), on tendered for filing a Uniform Distribution Company Operating Agreement (UDC Operating Agreement or Agreement) between Lassen Municipal Utility District (Lassen MUD) and the ISO for acceptance by the Commission.

The UDC Operating Agreement establishes ISO specifications and procedures that govern the general operation of the facilities that form the interface between the UDC system and the ISO Grid. The Agreement also establishes maintenance coordination standards, load shedding, emergency electrical planning, and information sharing and gathering procedures between the ISO and the UDC.

The ISO is requesting waiver of the 60-day notice requirement to allow the UDC Operating Agreement to be made effective as of July 1, 2000, the effective date of the agreement.

Copies of the filing were served upon Lassen MUD and the California Public Utilities Commission.

Comment date: August 17, 2000, in accordance with Standard Paragraph E at the end of this notice.

15. Tucson Electric Power Company

[Docket No. ER00-3280-000]

Take notice that on July 27, 2000, Tucson Electric Power Company (TEP), tendered for filing a short-term umbrella service agreement for sales under TEP's Market-Based Power Sales Tariff, FERC Electric Tariff Original Volume No. 3.

Umbrella Service Agreement for Short-Term Transactions with the California Independent System Operator Corporation (“California ISO”) dated July 24, 2000. Service commenced under this service agreement on June 27, 2000.

Comment date: August 17, 2000, in accordance with Standard Paragraph E at the end of this notice.

16. Rockingham Power, L.L.C.

[Docket No. ER00-3281-000]

Take notice that on July 27, 2000, Rockingham Power, L.L.C., tendered for filing a long-term service agreement (Power Purchase and Sales Agreement) covering transactions between Rockingham Power, L.L.C. (Rockingham) and Dynegy Power Marketing, Inc., under Rockingham's market-based rate schedule (Rate Schedule FERC No. 1), to be in effect as of June 30, 2000.

Comment date: August 17, 2000, in accordance with Standard Paragraph E at the end of this notice.

17. Allegheny Energy Service Corporation on Behalf of Allegheny Energy Supply Company, LLC

Docket No. ER00-3282-000

Take notice that on July 27, 2000, Allegheny Energy Service Corporation on behalf of Allegheny Energy Supply Company, LLC (Allegheny Energy Supply), tendered for filing Service Agreement No. 82 to add one (1) new Customer to the Market Rate Tariff under which Allegheny Energy Supply offers generation services.

Allegheny Energy Supply requests a waiver of notice requirements to make service available as of July 3, 2000 to H.Q. Energy Services (U.S.) Inc.

Copies of the filing have been provided to the Public Utilities Commission of Ohio, the Pennsylvania Public Utility Commission, the Maryland Public Service Commission, the Virginia State Corporation Commission, the West Virginia Public Service Commission, and all parties of record.

Comment date: August 17, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-19900 Filed 8-4-00; 8:45 am]

BILLING CODE 6717-01-P